DEPARTMENT OF HEALTH AND HUMAN SERVICES

National Institutes of Health

National Cancer Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Cancer Institute Special Emphasis Panel, Home Centered Coordinated Cancer Care System.

Date: April 4, 2007.

Time: 12 p.m. to 3 p.m.

Agenda: To review and evaluate contract proposals.

Place: National Institutes of Health, 6116 Executive Boulevard, Conference Room 706, Bethesda, MD 20892. (Telephone Conference Call).

Contact Person: Gerald G. Lovinger, PhD, Scientific Review Administrator, Special Review and Logistics Branch, Division of Extramural Activities, National Cancer Institute, 6116 Executive Blvd., Room 8101, Bethesda, MD 20892-8329. 301/496-7987. lovingeg@mail.nih.gov.

Name of Committee: National Cancer Institute Special Emphasis Panel, Quantiative Assay for O6—Carboxymethyl Guanine DNA Adducts.

Date: April 5, 2007.

Time: 12 p.m. to 4 p.m.

Agenda: To review and evaluate contract proposals.

Place: National Institutes of Health, 6116 Executive Boulevard, Conference Room 611, Bethesda, MD 20892. (Telephone Conference Call).

Contact Person: C. Michael Kerwin, PhD, MPH, Scientific Review Administrator, Special Review and Logistics Branch, Division of Extramural Activities, National Cancer Institute, NIH, 6116 Executive Blvd., Rm. 8057, Bethesda, MD 20892-8329, 301-496-7421. kerwinm@mail.nih.gov.

Name of Committee: National Cancer Institute Special Emphasis Panel, CA 07-032, “Improved Measures of Diet and Physical Activity for the Genes and Environment Initiative (GEI) (UO1)”.

Date: April 18-19, 2007.

Time: 9 a.m. to 3:30 p.m.

Agenda: To review and evaluate contract proposals.

Place: Marriott Gaithersburg Washingtonian Center, 951 Washingtonian Boulevard, Gaithersburg, MD 20878.

Contact Person: Thomas M. Vollberg, PhD, Scientific Review Administrator, Special Review and Logistics Branch, Division of Extramural Activities, National Cancer Institute, 6116 Executive Blvd., Room 7142, Bethesda, MD 20892. 301-594-9582. vollbert@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: March 7, 2007.
Anna Snouffer,
Acting Director, Officer of Federal Advisory Committee Policy.

[FR Doc. 07-1190 Filed 3-13-07; 8:45 am]

BILLING CODE 4140-01-M